NUCLEAR REGULATORY COMMISSION

Draft Regulatory Guide and Draft Standard Review Plan; Issuance, Availability

The Nuclear Regulatory Commission has issued for public comment a draft of a regulatory guide in its Regulatory Guide Series. This series has been developed to describe and make available to the public such information as methods acceptable to the NRC staff for implementing specific parts of the NRC's regulations, techniques used by the staff in evaluating specific problems or postulated accidents, and data needed by the staff in its review of applications for permits and licenses.

The draft guide, temporarily identified as DG-1085 (which should be mentioned in all correspondence concerning this draft guide), is “Standard Format and Content of Decommissioning Cost Estimates for Nuclear Power Reactors.” DG-1085 is being developed to provide guidance to licensees on the various cost estimates that are required for different stages and methods of decommissioning nuclear power reactors.

A conforming document, Draft NUREG-1713, “Standard Review Plan for Decommissioning Cost Estimates for Nuclear Power Reactors,” is also being issued for public comment. The NRC staff plans to use Draft NUREG-1713 in their review of licensees' cost estimates for decommissioning that are submitted to the NRC.

The NRC staff is soliciting comments on these draft documents and will incorporate appropriate changes to these documents based on the comments received.

This draft guide and draft standard review plan have not received complete staff approval and do not represent an official NRC staff position.

Comments may be accompanied by relevant information or supporting data. Written comments may be submitted to the Rules and Directives Branch, Office of Administration, U.S. Nuclear Regulatory Commission, Washington, DC 20555. Copies of comments received may be examined at the NRC Public Document Room, 11555 Rockville Pike, Rockville, MD. Comments will be most helpful if received by January 30, 2002.

You may also provide comments via the NRC's interactive rulemaking web site through the NRC home page (http://www.nrc.gov). This site provides the ability to upload comments as files (any format) if your web browser supports that function. For information about the interactive rulemaking web site, contact Ms. Carol Gallagher, (301) 415-5905; e-mail CAG@NRC.GOV. For information about the draft guide and the related standard review plan, contact Mr. W. Mike Ripley at (301) 415-1112; e-mail WMR@NRC.GOV.

Although a time limit is given for comments on these drafts, comments and suggestions in connection with items for inclusion in guides currently being developed or improvements in all published guides are encouraged at any time.

Electronic copies of these drafts are available through NRC's interactive rulemaking web site (see above) and from the ADAMS Public Library component on the NRC's web site (the Electronic Reading Room), http://www.nrc.gov. These drafts are available for inspection at the NRC's Public Document Room, 11555 Rockville Pike, Rockville, MD; the PDR's mailing address is USNRC PDR, Washington, DC 20555; telephone (301) 415-4737 or (800) 397-4205; fax (301) 415-3548; email PDR@NRC.GOV. Requests for single copies of draft or final guides or standard review plans (which may be reproduced), or for placement on an automatic distribution list for single copies of future draft guides in specific divisions, should be made in writing to the U.S. Nuclear Regulatory Commission, Washington, DC 20555, Attention: Reproduction and Distribution Services Section; or by e-mail to DISTRIBUTION@NRC.GOV; or by fax to (301) 415-2289. Telephone requests cannot be accommodated. Regulatory guides are not copyrighted, and Commission approval is not required to reproduce them. (5 U.S.C. 552(a))

Dated at Rockville, Maryland, this 8th day of November, 2001.
For the Nuclear Regulatory Commission.
Mabel F. Lee,
Director, Program Management, Policy Development and Analysis Staff, Office of Nuclear Regulatory Research.

[FR Doc. 01-29445 Filed 11-27-01; 8:45 am]

BILLING CODE 7590-01-P